DEPARTMENT OF ENERGY

Federal Energy Regulatory Commission

Notice of FERC Staff Attendance at Southwest Power Pool Regional State Committee Annual Meeting and Southwest Power Pool Board of Directors Meeting and Annual Meeting of Members

October 8, 2009.

The Federal Energy Regulatory Commission hereby gives notice that members of its staff may attend the meetings of the Southwest Power Pool (SPP) Regional State Committee, and SPP Board of Directors, as noted below. Their attendance is part of the Commission's ongoing outreach efforts.

SPP Regional State Committee Annual Meeting

October 26, 2009 (1 p.m.-5 p.m.), Doubletree Hotel Warren Place, 6110 South Yale Avenue, Tulsa, OK 74136, 918-495-1000.

SPP Board of Directors Meeting and Annual Meeting of Members

October 27, 2009 (8 a.m.-3 p.m.), Doubletree Hotel Warren Place, 6110 South Yale Avenue, Tulsa, OK 74136, 918-495-1000.

The discussions may address matters at issue in the following proceedings:

Docket No. ER06-451, Southwest Power Pool, Inc.

Docket No. ER07-371, Southwest Power Pool, Inc.

Docket No. ER08-923, Southwest Power Pool, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1419, Southwest Power Pool, Inc.

Docket No. ER09-35, Tallgrass Transmission LLC

Docket No. ER09-36, Prairie Wind Transmission LLC

Docket No. ER09-262, Southwest Power Pool, Inc.

Docket No. ER09-342, Southwest Power Pool, Inc.

Docket No. ER09-659, Southwest Power Pool, Inc.

Docket No. ER09-1050, Southwest Power Pool, Inc.

Docket No. ER09-1254, Southwest Power Pool, Inc.

Docket No. ER09-1255, Southwest Power Pool, Inc.

Docket No. ER09-1386-001, Southwest Power Pool, Inc.

Docket No. ER09-1397, Southwest Power Pool, Inc.

Docket No. ER09-1665-000, Southwest Power Pool, Inc.

Docket No. ER09-1714-000, Southwest Power Pool, Inc.

Docket No. ER09-1716-000, Southwest Power Pool, Inc.,

Docket No. ER09-1732-000, Southwest Power Pool, Inc.

Docket No. ER09-1733-000, Southwest Power Pool, Inc.

Docket No. ER09-1736-000, Southwest Power Pool, Inc.

Docket No. ER09-1740-000, Southwest Power Pool, Inc.

Docket No. ER10-13-000, Southwest Power Pool, Inc.

Docket No. ER10-21-000, Southwest Power Pool, Inc.

Docket No. ER10-33-000, Southwest Power Pool, Inc.

Docket No. ER08-1419, Southwest Power Pool, Inc.

Docket No. OA08-5 and EL09-40, Southwest Power Pool, Inc.

Docket No. OA08-60, Southwest Power Pool, Inc.

Docket No. OA08-61, Southwest Power Pool, Inc.

Docket No. OA08-104, Southwest Power Pool, Inc.

These meetings are open to the public.

For more information, contact Patrick Clarey, Office of Energy Market Regulation, Federal Energy Regulatory Commission at (317) 249-5937 or patrick.clarey@ferc.gov.

Nathaniel J. Davis, Sr.,
Deputy Secretary.

[FR Doc. E9-25176 Filed 10-19-09; 8:45 am]

BILLING CODE 6717-01-P